ENVIRONMENTAL PROTECTION AGENCY

40 CFR Part 52

[EPA-R10-OAR-2015-0329, FRL-9928-32-Region 10]

Approval and Promulgation of Implementation Plans; Washington: Interstate Transport Requirements for the 2008 Lead and 2010 Nitrogen Dioxide National Ambient Air Quality Standards

AGENCY: Environmental Protection Agency (EPA).

ACTION: Proposed rule.

SUMMARY: The Environmental Protection Agency (EPA) is proposing to approve a submittal by the Washington Department of Ecology (Ecology) demonstrating that the State Implementation Plan (SIP) meets certain interstate transport requirements of the Clean Air Act (CAA) for the National Ambient Air Quality Standards (NAAQS) promulgated for lead (Pb) on October 15, 2008, and nitrogen dioxide (NO2) on January 22, 2010. Specifically, Ecology conducted an emissions inventory analysis and reviewed monitoring data to show that sources within Washington do not significantly contribute to nonattainment, or interfere with maintenance, of the Pb and NO2 NAAQS in any other state.

DATES: Comments must be received on or before June 26, 2015.

ADDRESSES: Submit your comments, identified by Docket ID No. EPA-R10-OAR-2015-0329, by any of the following methods:

• Email: R10-Public_Comments@epa.gov.

• www.regulations.gov: Follow the on-line instructions for submitting comments.

• Mail: Jeff Hunt, EPA Region 10, Office of Air, Waste and Toxics (AWT-150), 1200 Sixth Avenue, Suite 900, Seattle, WA 98101.

• Hand Delivery: EPA Region 10 Mailroom, 9th floor, 1200 Sixth Avenue, Suite 900, Seattle, WA 98101. Attention: Jeff Hunt, Office of Air, Waste and Toxics, AWT-150. Such deliveries are only accepted during normal hours of operation, and special arrangements should be made for deliveries of boxed information.

Instructions: Direct your comments to Docket ID No. EPA-R10-OAR-2015-0329. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information the disclosure of which is restricted by statute. Certain other material, such as copyrighted material, is not placed on the Internet and will be publicly available only in hard copy. Publicly available docket materials are available either electronically in www.regulations.gov or in hard copy during normal business hours at the Office of Air, Waste and Toxics, EPA Region 10, 1200 Sixth Avenue, Seattle, WA 98101.

FOR FURTHER INFORMATION CONTACT: Jeff Hunt at: (206) 553-0256, hunt.jeff@epa.gov, or the above EPA, Region 10 address.

SUPPLEMENTARY INFORMATION: Throughout this document wherever “we,” “us” or “our” is used, it is intended to refer to the EPA. Information is organized as follows:

Table of Contents

I. Background

II. Analysis of the State's Submittal

A. 2008 Pb NAAQS

B. 2010 NO2 NAAQS

III. Proposed Action

IV. Statutory and Executive Order Reviews

I. Background

On October 15, 2008 (73 FR 66964) and January 22, 2010 (75 FR 6474), the EPA revised the Pb and NO2 NAAQS, respectively. Within three years after promulgation of a new or revised standard, states must submit SIPs meeting the requirements of CAA sections 110(a)(1) and (2), often referred to as “infrastructure” requirements. On May 11, 2015, Ecology submitted a SIP revision including an emissions inventory and monitoring data analysis to demonstrate that sources within Washington do not significantly contribute to nonattainment, or interfere with maintenance, of the Pb and NO2 NAAQS in any other state to address the CAA section 110(a)(2)(D)(i)(I) requirements for those pollutants.¹

¹ Washington's May 11, 2015 submittal also included an interstate transport analysis for the ozone standard promulgated by the EPA in 2008. The EPA is not acting on the ozone interstate transport analysis at this time.

II. Analysis of the State's Submittal

CAA section 110(a)(2)(D)(i)(I) requires state SIPs to contain adequate provisions prohibiting any source or other type of emissions activity within a state from contributing significantly to nonattainment, or interfering with maintenance of the NAAQS in any other state.

A. 2008 Pb NAAQS

State submittal: Washington's submittal cites the EPA's guidance to address Pb infrastructure SIP elements under CAA sections 110(a)(1) and (2).² The EPA's Pb infrastructure guidance states, “[t]he physical properties of Pb prevent Pb emissions from experiencing the same travel or formation phenomena as PM2.5 or ozone. More specifically, there is a sharp decrease in Pb concentrations, at least in the coarse fraction, as the distance from a Pb source increases. Accordingly, while it may be possible for a source in a state to emit Pb in a location and in quantities that may contribute significantly to nonattainment in, or interfere with maintenance by, any other state, EPA anticipates that this would be a rare situation, e.g., where large sources are in close proximity to state boundaries.” The Pb infrastructure guidance also notes, “EPA's experience with initial lead designations suggests that sources that emit less than 0.5 tpy [tons per year] or that are located more than 2 miles from a state border generally appear unlikely to contribute significantly to nonattainment in another state.”

² Stephen D. Page, Director, Office of Air Quality Planning and Standards. 1.) “Guidance on Infrastructure State Implementation Plan (SIP) Elements Required Under Sections 110(a)(1) and (2) for the 2008 Lead (Pb) National Ambient Air Quality Standards.” Memorandum to EPA Air Division Directors, Regions I-X, October 14, 2011, and 2.) “Guidance on Infrastructure State Implementation Plan (SIP) Elements under Clean Air Act Sections 110(a)(1) and 110(a)(2).” Memorandum to EPA Air Division Directors, Regions I-X, September 13, 2013.

In order to evaluate possible emissions impacts in neighboring states, Ecology reviewed the 2011 National Emissions Inventory (NEI) for facilities located in all Washington counties within 2 miles of the state border reporting lead emissions. As shown in table A1 of Washington's submittal, all of these facilities had Pb emissions of 0.16 tpy or less. Based on this information, Ecology determined that these sources are unlikely to contribute significantly to nonattainment, or interfere with maintenance, in another state.

Similarly, Ecology reviewed the 2011 National Emissions Inventory (NEI) for all facilities in the State reporting Pb emissions above 0.5 tpy. These facilities were Auburn Municipal Airport (0.61 tpy), Saint-Gobain Containers, Inc. (0.54 tpy), and Harvey Field Airport (0.54 tpy). All three of these sources with Pb emissions above 0.5 tpy are located over 100 miles from the neighboring Idaho and Oregon borders. Because of the considerable distance to state borders, Ecology also determined that these sources are unlikely to contribute significantly to nonattainment, or interfere with maintenance, in another state.

EPA analysis: In addition to reviewing Ecology's analysis, the EPA also reviewed current monitoring data for the Pb NAAQS.³ To identify nonattainment receptors for the purpose of CAA section 110(a)(2)(D)(i)(I), the EPA reviewed the most recent monitoring data available (2011-2013) and found that the closest monitor violating the Pb NAAQS was San Mateo, California, located approximately 600 miles from the Washington border. For the purpose of evaluating “interference with maintenance” for CAA section 110(a)(2)(D)(i)(I), the EPA identified maintenance receptors as any monitor that violated the Pb NAAQS in either of the prior two monitoring cycles (2009-2011 and 2010-2012), but attained in the most recent monitoring cycle (2011-2013). The EPA reviewed the 2009-2011, 2010-2012, and 2011-2013 Pb monitoring data and found no areas that would be considered a maintenance receptor. The EPA believes it is reasonable to conclude that emissions from Washington sources do not significantly contribute to nonattainment, or interfere with maintenance of the 2008 Pb NAAQS in any other state.

³ http://www.epa.gov/airtrends/values.html.

B. 2010 NO2 NAAQS

State submittal: Ecology's submittal noted there is no EPA guidance suggesting how to approach a technical analysis for NO2 interstate transport. Based on a review of other state submittals, Ecology examined ambient air quality data for NO2 monitors in states bordering Washington (Idaho, Oregon), and identified monitors within a 50 kilometer radius of the border, the standard distance for modeling analysis (see 79 FR 25066, May 2, 2014, for the EPA's NO2 interstate transport analysis for New York). Using this methodology, Ecology identified one monitor meeting the criteria. This monitor is located in Multnomah County, Oregon with design values in 2009-2011 = 36 parts per billion (ppb), 2010-2012 = 34 ppb, and 2011-2013 = 34 ppb, all well below the 2010 NO2 1-hour NAAQS of 100 ppb. The next closest NO2 monitor is located in Ada County, Idaho, outside the 50 kilometer radius of the Washington border, with 98th percentile highest daily maximum 1-hour averages of 44 ppb in 2012 and 39 ppb in 2013.⁴

⁴ Because the Ada County monitor was recently established it does not yet have three years of complete data to calculate a design value for comparison to the NAAQS, however the annual values to date are well below the 100 ppb 2010 1-hour NO2 NAAQS. For more information on this monitor please see http://www.deq.idaho.gov/media/1118299/annual-ambient-aq-monitoring-network-plan-1114.pdf.

Ecology also supplemented the monitoring data with an emissions inventory analysis showing on-road mobile sources comprising 57% of total emissions, with the next two largest source categories being non-road mobile sources = 11% and point sources = 9% of emissions in Washington State in 2011. Finally, Ecology used the Motor Vehicle Emission Simulator (MOVES2014) to demonstrate that the model predicts dramatic reductions in on-road and non-road mobile source NO2 emissions from 2000 through 2020 in Washington.

EPA analysis: In addition to reviewing Ecology's analysis, the EPA also reviewed monitoring data for all NO2 monitors in the United States.⁵ During the monitoring periods of 2009-2011, 2010-2012, and 2011-2013, the EPA found no monitors violating the 2010 NO2 NAAQS. Similar to the methodology described above for determining Pb maintenance receptors, the EPA identified NO2 maintenance receptors as any monitor that violated the NO2 NAAQS in either of the prior two monitoring cycles (2009-2011 and 2010-2012), but attained in the most recent monitoring cycle (2011-2013). Using this methodology, the EPA found no receptors meeting the criteria as a maintenance receptor. Based on this monitoring data, the EPA believes it is reasonable to conclude that emissions from Washington sources do not significantly contribute to nonattainment, or interfere with maintenance of the NO2 NAAQS in any other state.

⁵ http://www.epa.gov/airtrends/values.html.

III. Proposed Action

The EPA has reviewed the May 11, 2015 submittal from Ecology demonstrating that sources in Washington do not significantly contribute to nonattainment, or interfere with maintenance, of the Pb and NO2 NAAQS in other states. The EPA is proposing to find that the Washington SIP meets the CAA section 110(a)(2)(D)(i)(I) interstate transport requirements for the 2008 Pb and 2010 NO2 NAAQS.

IV. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this proposed action merely approves the state law as meeting Federal requirements and does not impose additional requirements beyond those imposed by the state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to the requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, the SIP is not approved to apply on any Indian reservation land in Washington except as specifically noted below and is also not approved to apply in any other area where the EPA or an Indian tribe has demonstrated that a tribe has jurisdiction. In those areas of Indian country, the rule does not have tribal implications as specified by Executive Order 13175 (65 FR 67249, November 9, 2000), nor will it impose substantial direct costs on tribal governments or preempt tribal law. Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area. Consistent with EPA policy, the EPA provided a consultation opportunity to the Puyallup Tribe in a letter dated September 3, 2013. The EPA did not receive a request for consultation.

List of Subjects in 40 CFR Part 52

Environmental protection, Air pollution control, Incorporation by reference, Intergovernmental relations, Nitrogen dioxide, Ozone, Reporting and recordkeeping requirements, and Volatile organic compounds.

Authority: 42 U.S.C. 7401 et seq.

Dated: May 18, 2015.
Dennis J. McLerran,
Regional Administrator, Region 10.

[FR Doc. 2015-12662 Filed 5-26-15; 8:45 am]

BILLING CODE 6560-50-P